FEDERAL MARITIME COMMISSION

[Docket No. 24-01]

Notice of Filing of Amended Complaint and Assignment; Visual Comfort & Co., Complainant V. Cosco Shipping Lines Co., Ltd., Respondent

Served: February 9, 2024.

Notice is given that an amended complaint has been filed with the Federal Maritime Commission (the “Commission”) by Visual Comfort & Co. (the “Complainant”) against COSCO Shipping Lines Co., Ltd. (the “Respondent”). Complainant states that the Commission has jurisdiction over the amended complaint pursuant to 46 U.S.C. 41301 through 41309 and personal jurisdiction over Respondent as an ocean common carrier as defined in 46 CFR 520.2.

Complainant is a corporation organized under the laws of Texas with its principal place of business located in Houston, Texas, and is a shipper as defined in 46 U.S.C. 40102(23).

Complainant identifies Respondent as a Chinese global ocean carrier located in Shanghai, People's Republic of China with an office/general agent in the United States located in Secaucus, New Jersey, and as a vessel-operating ocean common carrier as defined in 46 U.S.C. 40102(18).

Complainant alleges that Respondent violated 46 U.S.C. 41102(c) and 41104(a)(10) and 46 CFR 545.5. Complainant alleges these violations arose from assessment of demurrage, detention, per diem, and yard storage charges during periods of time in which the charges were not just or reasonable because of circumstances outside the control of the Complainant and its agents and service providers, and from the acts or omissions of the Respondent that led to the assessment of these charges.

An answer to the amended complaint must be filed with the Commission within 14 days after the date of service of the Administrative Law Judge's Order Granting Complainant's Motion to Amend Complaint and Substitute Respondent, and Granting Respondent's Motion to Dismiss.

The full text of the amended complaint can be found in the Commission's electronic Reading Room at https://www2.fmc.gov/readingroom/proceeding/24-01/. This proceeding has been assigned to Administrative Law Judge Linda S. Harris Crovella. The initial decision of the presiding judge shall be issued by January 6, 2025, and the final decision of the Commission shall be issued by July 21, 2025.

David Eng,
Secretary.

[FR Doc. 2024-03139 Filed 2-14-24; 8:45 am]

BILLING CODE 6730-02-P